GENERAL SERVICES ADMINISTRATION

[OMB Control No. 3090-0163; Docket 2014-0001; Sequence 4]

Information Collection; General Services Administration; Information Specific to a Contract or Contracting Action (Not Required by Regulation)

AGENCY: Office of the Chief Acquisition Officer, General Services Administration (GSA).

ACTION: Notice of request for public comments regarding an extension to an existing OMB information collection.

SUMMARY: Under the provisions of the Paperwork Reduction Act, the Regulatory Secretariat Division will be submitting to the Office of Management and Budget (OMB) a request to review and approve an extension of a previously approved information collection requirement regarding Information Specific to a Contract or Contracting Action (not required by regulation).

DATES: Submit comments on or before: September 22, 2014.

ADDRESSES: Submit comments identified by Information Collection 3090-0163, Information Specific to a Contract or Contracting Action (Not Required by Regulation), by any of the following methods:

• Regulations.gov: http://www.regulations.gov. Submit comments via the Federal eRulemaking portal by searching the OMB control number 3090-0163. Select the link “Comment Now” that corresponds with “Information Collection 3090-0163, Information Specific to a Contract or Contracting Action (Not Required by Regulation)”. Follow the instructions provided on the screen. Please include your name, company name (if any), and “Information Collection 3090-0163, Information Specific to a Contract or Contracting Action (Not Required by Regulation)”, on your attached document.

• Fax: 202-501-4067.

• Mail: General Services Administration, Regulatory Secretariat Division (MVCB), 1800 F Street NW., Washington, DC 20405. ATTN: Ms. Flowers/IC 3090-0163, Information Specific to a Contract or Contracting Action (Not Required by Regulation).

Instructions: Please submit comments only and cite Information Collection 3090-0163, Information Specific to a Contract or Contracting Action (Not Required by Regulation), in all correspondence related to this collection. All comments received will be posted without change to http://www.regulations.gov, including any personal and/or business confidential information provided.

FOR FURTHER INFORMATION CONTACT: Jeffrey M. Pitts, Program Analyst, GSA Acquisition Policy Division, at telephone 202-501-0712 or email jeffrey.pitts@gsa.gov.

SUPPLEMENTARY INFORMATION:

A. Purpose

The General Services Administration (GSA) has various mission responsibilities related to the acquisition and provision of supplies, transportation, information technology, telecommunications, real property management, and disposal of real and personal property. These mission responsibilities generate requirements that are realized through the solicitation and award of public contracts. Individual solicitations and resulting contracts may impose unique information collection/reporting requirements on contractors, not required by regulation, but necessary to evaluate particular program accomplishments and measure success in meeting special program objectives.

B. Annual Reporting Burden

Respondents: 126,870.

Responses per Respondent: 1.35.

Total Responses: 171,275.

Hours Per Response: .40.

Total Burden Hours: 68,510.

C. Public Comments

Public comments are particularly invited on: Whether this collection of information is necessary and whether it will have practical utility; whether our estimate of the public burden of this collection of information is accurate and based on valid assumptions and methodology; and ways to enhance the quality, utility, and clarity of the information to be collected.

Obtaining Copies Of Proposals: Requesters may obtain a copy of the information collection documents from the General Services Administration, Regulatory Secretariat Division (MVCB), 1800 F Street, Washington, DC 20405, telephone 202-501-4755. Please cite OMB Control No. 3090-0163, Information Specific to a Contract or Contracting Action (Not Required by Regulation), in all correspondence.

Dated: July 16, 2014.
Jeffrey Koses,
Senior Procurement Executive, Office of Acquisition Policy, Office of Government-wide Policy.

[FR Doc. 2014-17191 Filed 7-21-14; 8:45 am]

BILLING CODE 6820-61-P